DEPARTMENT OF LABOR

Employment and Training Administration

[TA-W-63,893]

Ingersoll-Rand Ives Division Formerly Harrow Products, Inc. Including On-Site Leased Workers From Talent Tree and Ahead Human Resources, New Haven, CT; Amended Certification Regarding Eligibility To Apply for Worker Adjustment Assistance and Alternative Trade Adjustment Assistance

In accordance with section 223 of the Trade Act of 1974 (19 U.S.C. 2273), and section 246 of the Trade Act of 1974 (26 U.S.C. 2813), as amended, the Department of Labor issued a Certification Regarding Eligibility to Apply for Worker Adjustment Assistance and Alternative Trade Adjustment Assistance on November 19, 2008, applicable to workers of Ingersoll-Rand, Ives Division, including on-site leased workers from Talent Tree and Ahead Human Resources, New Haven, Connecticut. The notice was published in the Federal Register on December 10, 2008 (73 FR 75134).

At the request of the State agency, the Department reviewed the certification for workers of the subject firm. The workers are engaged in the production of building and architectural hardware such as nuts, bolts, screws, etc.

New information provided to the Department shows that some of the workers wages at the subject firm are being reported under the Unemployment Insurance (UI) tax account for the former owner, Harrow Products, Inc. Accordingly, the Department is amending the certification to include those workers.

The intent of the Department's certification is to include all workers of Ingersoll-Rand, Ives Division, New Haven, Connecticut, who were adversely affected by increased imports of building and architectural hardware.

The amended notice applicable to TA-W-63,893 is hereby issued as follows:

All workers of Ingersoll-Rand, Ives Division, formerly Harrow Products, Inc., including on-site leased workers from Talent Tree and Ahead Human Resources, New Haven, Connecticut, who became totally or partially separated from employment on or after August 18, 2007, through November 19, 2010, are eligible to apply for adjustment assistance under Section 223 of the Trade Act of 1974, and are also eligible to apply for alternative trade adjustment assistance under Section 246 of the Trade Act of 1974.

Signed at Washington, DC, this 24th day of December 2008.
Linda G. Poole,
Certifying Officer, Division of Trade Adjustment Assistance.

[FR Doc. E8-31328 Filed 1-5-09; 8:45 am]

BILLING CODE 4510-FN-P